FEDERAL COMMUNICATIONS COMMISSION

Public Information Collections Approved by Office of Management and Budget

September 17, 2007.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Dana Wilson, Federal Communications Commission, 445 12th Street, SW., Washington, DC 20554, (202) 418-2247 or via the Internet at Dana.Wilson@fcc.gov.

SUPPLEMENTARY INFORMATION: OMB Control No.: 3060-0422.

OMB Approval Date: 09/10/2007.

Expiration Date: 09/30/2010.

Title: Section 68.5, Waivers (Application for Waiver of Hearing Aid Compatibility Requirements.

Form No.: N/A.

Estimated Annual Burden: 10 responses; 3 hours per response; 30 total annual hourly burden.

Needs and Uses: Telephone manufacturers seeking a waiver of 47 CFR 68.4(a)(1), which requires that certain telephones be hearing aid compatible, must demonstrate that compliance with the rule is technologically infeasible or too costly. Information is used by FCC staff to determine whether to grant or dismiss the request.

OMB Control No.: 3060-0874.

OMB Approval Date: 09/11/2007.

Expiration Date: 09/30/2010.

Title: Consumer Complaint Forms, FCC Forms 475-B and FCC Form 2000.

Form No.: FCC Forms 475-B; 2000-A, 2000-B, 2000-C, 2000-D, 2000-E, and 2000-F.

Estimated Annual Burden: 1,330,108 responses; 15 to 30 minutes per response; 347,221 total annual hourly burden.

Needs and Uses: Section 208(a) of the Communications Act of 1934, as amended, authorizes complaints by any “person complaining of anything done or omitted to be done by any common carrier” subject to the provisions of the Act. Section 208(a) further states that, if a carrier does not satisfy a complaint or there appears to be any reasonable ground for investigating the complaint, the Commission shall “investigate the matters complained of in such manner and by such means as it shall deem proper.” Although the Act does not discuss how the Commission should treat complaints against non-common carriers for violations of the Act or Commission rules, the Commission investigates such complaints in a manner similar to how it treats those against common carriers.

Currently, the Commission has specific complaint forms for the unauthorized conversion of a person's telephone service (“slamming”) (FCC Form 501), the broadcast of indecent, obscene, or profane material (FCC Form 475B), and the unlawful telemarketing, “junk faxing,” or e-mail messaging to a wireless device (FCC Form 1088).

The new FCC Form 2000 replaces the FCC Form 475, providing greater clarity and ease of use by separating the various complaint subject areas into separate subparts tailored to each subject. The Internet-based version of FCC Form 2000 first asks for the complainant's contact information, including name, address, telephone number, and e-mail address; then presents a “gateway” question to determine the general topic of the complaint: (1) Deceptive or unlawful advertising or marketing; (2) billing, privacy, or service quality; (3) disability access; (4) emergency or public safety; (5) general media issues; or (6) other complaints. As described below, the form provides examples of the types of issues covered by each topic. After the complainant answers this question, the form asks additional questions geared to the specific type of violation reported. The form poses certain mandatory threshold questions that must be answered for the Commission to determine whether a violation has occurred. It also provides space for complainants to provide additional information and details that may be necessary or helpful to the Commission in investigating the complaint.

In printed format, FCC Form 2000 has six subparts, one for each area described above. Each subpart of the printable version of FCC Form 2000 consolidates the complainant's personal information with detailed questions about the specific violations alleged by the complainant. The information collected by FCC Form 2000 may ultimately become the foundation for enforcement actions and/or rulemaking proceedings, as appropriate. FCC Form 475-B, Obscene, Profane, and Indecent Complaint Form is used by consumers to lay out precisely their complaint(s) and issue(s) concerning the practices of the communications entities, which consumers believe may have aired obscene, profane, and/or indecent programming. FCC Form 475-B remains unchanged.

OMB Control No.: 3060-0967.

OMB Approval Date: 09/05/2007.

Expiration Date: 09/30/2010.

Title: Section 79.2, Accessibility of Programming Providing Emergency Information.

Form No.: N/A.

Estimated Annual Burden: 100 responses; 1 to 2 hours per response; 210 total annual hourly burden.

Needs and Uses: 47 CFR 79.2 is designed to ensure that persons with hearing and visual disabilities have access to the critical details of emergency information. The Commission adopted the rules to assist persons with hearing disabilities on April 14, 2000, in the Second Report and Order in MM Docket No. 95-176. The Commission modified the rules to assist persons with visual disabilities on July 21, 2000, in the Report and Order in MM Docket No. 99-339. As the Commission noted in the previous PRA submission, the Commission adopted its rules for persons with different disabilities at different times.

47 CFR 79.2(c) requires that each complaint transmitted to the Commission include the following: the name of the video programming distributor at issue; the date and time of the omission of the emergency information; and the type of emergency. The Commission then notifies the video programming distributor, which must reply within 30 days.

OMB Control No.: 3060-0968

OMB Approval Date: 09/13/2007.

Expiration Date: 09/30/2010.

Title: Slamming Complaint Form.

Form No.: FCC Form 501.

Estimated Annual Burden: 3,600 responses; 15 minutes per response; 900 total annual hourly burden.

Needs and Uses: On December 17, 1998, the Commission announced to the public via news release its plan to provide consumers with tools to better protect themselves from telephone related fraud, as well as offer consumers an easy means to file complaints. On December 23, 1998, the Commission released a Second Report and Order and Further Notice of Proposed Rulemaking (FCC 98-334) adopting new rules to prevent the unauthorized change by telecommunications carriers of consumers' selections of telecommunications service providers (slamming), and revealing future initiatives to protect consumers from telephone related fraud. One of those initiatives was the development of the electronic slamming complaint form: FCC Form 501. FCC Form 501, Slamming Complaint Form, is devised to ensure complete and efficient submission of necessary information to process slamming complaints. FCC Form 501 remains available to consumers electronically and in hard copy. The Commission will use this information to provide redress to consumers and to act against companies engaged in this illegal practice.

OMB Control No.: 3060-1084.

OMB Approval Date: 06/25/2007.

Expiration Date: 06/30/2010.

Title: Rules and Regulations Implementing Minimum Customer Account Record Exchange Obligations on All Local and Interexchange Carriers (CARE).

Form No.: N/A.

Estimated Annual Burden: 433,040 responses; 0.27 to 6.7 hours per response; 39,840 total annual hourly burden.

Needs and Uses: In addition to the existing information collection requirements that we previously approved by OMB, in the Order on Reconsideration, In the Matter of Rules and Regulations Implementing Minimum Customer Account Record Exchange Obligations on All Local Exchange Carriers (LECs) and Interexchange Carriers (IXCs)(2005 Report and Order), CG Docket No. 02-386, FCC 06-134, which was released on September 13, 2006, the Commission concluded that minor modifications to 47 CFR 64.4002 are needed to clarity carriers' respective obligations under that rule section.

Paragraph 64.4002(d) is modified to require that LEC notify an IXC when the LEC has removed at its local switch a presubscribed customer of the IXC in connection with the customer's selection of “no-PIC” (preferred interexchange carrier) status. In this context, the selection of “no-PIC” status by the customer refers to the selection of no carriers for interLATA (Local Access Transport and Area) service or no carrier for interLATA service. The Commission concludes that this modification is needed to ensure that an IXC does not continue billing a customer for non-usage-related monthly charges where that customer has contacted his current LEC or his current IXC to select “no-PIC” status.

Paragraph 64.4002(e) of the Commission's rules is modified to include the effective date of any changes to a customer's local service account and the carrier identifications code of the customer's IXC among the categories of information that must be provided to the IXC by the LEC. The Commission concludes that knowing the effective date of account changes will help IXCs to maintain accurate customer account information and that including the carrier identification code of the customer's IXC will enable an IXC to verify that it is the proper recipient of the transmitted information.

Paragraph 64.402(g) of the Commission's rules is modified to make the information categories included in paragraph 64.402(g) consistent with those included in other LEC notifications requirements. Paragraph 64.4002(g) also is modified to require that when a customer changes LECs, but wishes to retain his current PIC, the new LEC must so notify the current PIC so that the current PIC does not erroneously assume, absent additional notification from the new LEC, that the customer also wishes to cancel his current PIC.

Federal Communications Commission.
Marlene H. Dortch,
Secretary.

[FR Doc. E7-19250 Filed 9-28-07; 8:45 am]

BILLING CODE 6712-01-P